NATIONAL SCIENCE FOUNDATION

Notice of Permit Applications Received Under the Antarctic Conservation Act of 1978 (Pub. L. 95-541)

AGENCY: National Science Foundation.

ACTION: Notice of Permit Applications Received Under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 17, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implemented the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designee Specially Protected Areas and Sites of Special Scientific Interest.

The applications received are as follows:

1. Applicant Maria Stenzel, 5846 Sherier Place, NW., Washington, DC 20016. Permit Application No. 2001-022

Activity for Which Permit Is Requested

Enter Antarctic Specially Protected Areas. The applicant is a photographer on assignment for National Geographic Magazine who plans to photograph Antarctic fauna and flora. The applicant has been in contact with a number of researchers and has made arrangements to cover their specific areas of study. In order to accomplish this the applicant will need to enter the Antarctic Specially Protected Areas where the scientists are conducting their research. No approach to the Specially Protected Areas will be made without the presence of the scientist or a member of his/her field party.

Location

ASPA 113—Litchfield Island, Arthur Harbor, Palmer Archipelago

ASPA 121—Cape Royds, Ross Island

ASPA 124—Cape Crozier, Ross Island

ASPA 128—Western Shore of Admiralty Bay, King George Island

ASPA 139—Biscoe Point, Anvers Island, Palmer Archipelago

ASPA 149—Cape Shireff, Livingston Island, South Shetlands

Dates

October 15, 2000 to February 1, 2001.

Nadene G. Kennedy,
Permit Officer, Office of Polar Programs.

[FR Doc. 00-23684 Filed 9-13-00; 8:45 am]

BILLING CODE 7555-01-M